DEPARTMENT OF TRANSPORTATION

Federal Aviation Administration

14 CFR Part 71

[Docket No. FAA-2020-0350; Airspace Docket No. 18-AAL-2]

RIN 2120-AA66

Amendment of Class E Airspace; Kotzebue, AK; Correction

AGENCY: Federal Aviation Administration (FAA), DOT.

ACTION: Final rule; correction.

SUMMARY: The Federal Aviation Administration (FAA) is correcting a final rule that appeared in the Federal Register on July 23, 2020. The rule modified Class E airspace designated as a surface area. The rule also modified Class E airspace extending upward from 700 feet above the surface and Class E airspace extending upward from 1,200 feet above the surface at Ralph Wien Memorial Airport. The final rule inadvertently included spelling errors within the airport's name in several sections of the Final Rule. This action corrects the spelling errors throughout the final rule document.

DATES: Effective 0901 UTC, November 5, 2020. The Director of the Federal Register approves this incorporation by reference action under Title 1 Code of Federal Regulations part 51, subject to the annual revision of FAA Order 7400.11 and publication of conforming amendments.

FOR FURTHER INFORMATION CONTACT: Matthew Van Der Wal, Federal Aviation Administration, Western Service Center, Operations Support Group, 2200 S 216th Street, Des Moines, WA 98198; telephone (206) 231-3695.

SUPPLEMENTARY INFORMATION:

History

The FAA published a final rule in the Federal Register (85 FR 44467; July 23, 2020) for Docket FAA-2020-0350 amending Class E airspace designated as a surface area. Class E airspace extending upward from 700 feet above the surface and Class E airspace extending upward from 1,200 feet above the surface. Subsequent to publication, the FAA identified the spelling errors within the airport's name throughout the document. This action corrects spelling errors.

Class E2, and E5 airspace designations are published in paragraph 6002, and 6005, respectively, of FAA Order 7400.11D, dated August 8, 2019, and effective September 15, 2019, which is incorporated by reference in 14 CFR 71.1. The Class E airspace designation listed in this document will be published subsequently in the Order.

Correction to Final Rule

Accordingly, pursuant to the authority delegated to me, Amendment of the Class E Airspace; Kotzebue, AK, published in the Federal Register of July 23, 2020 (85 FR 44467), FR Doc. 2020-15930, is corrected as follows:

§ 71.1 [Corrected]

1. On page 44467, in the third column, in the Summary section, in the first paragraph, the airport name is corrected from Ralph Wein Memorial airport to Ralph Wien Memorial Airport.

§ 71.1 [Corrected]

2. On page 44468, in the first column, in the Authority for This Rulemaking section, the airport name is corrected from Ralph Wein Memorial airport to Ralph Wien Memorial Airport.

§ 71.1 [Corrected]

3. On page 44468, in the first column, in the History section, in the first paragraph, the airport name is corrected from Ralph Wein Memorial airport to Ralph Wien Memorial Airport.

§ 71.1 [Corrected]

4. On page 44468, in the second column, in The Rule section, in the first paragraph, the airport name is corrected from Ralph Wein Memorial airport to Ralph Wien Memorial Airport.

§ 71.1 [Corrected]

5. On page 44468, in the second column, in The Rule section, in the second paragraph, the airport name is corrected from Ralph Wein Memorial airport to Ralph Wien Memorial Airport.

Issued in Seattle, Washington, on August 19, 2020.
B. G. Chew,
Acting Group Manager, Western Service Center, Operations Support Group.

[FR Doc. 2020-18538 Filed 8-24-20; 8:45 am]

BILLING CODE 4910-13-P